DEPARTMENT OF STATE

[Public Notice: 9168]

Determination by the Secretary of State Relating to Iran Sanctions

This notice is to inform the public that the Secretary of State determined on May 20, 2015, pursuant to Section 1245(d)(4)(D) of the National Defense Authorization Act for Fiscal Year 2012 (NDAA), (Pub. L. 112-81), as amended, that as of May 20, 2015, the following countries, Malaysia and Singapore, have maintained their crude oil purchases from Iran at zero over the preceding 180-day period.

Dated: June 3, 2015.
Amos Hochstein,
Special Envoy and Coordinator for International Energy Affairs, U.S. Department of State.

[FR Doc. 2015-14195 Filed 6-9-15; 8:45 am]

BILLING CODE 4710-09-P